DEPARTMENT OF JUSTICE

[CPCLO Order No. 06-2024]

Privacy Act of 1974; System of Records

AGENCY: Office of Justice Programs, United States Department of Justice.

ACTION: Notice of a new system of record.

SUMMARY: Pursuant to the Privacy Act of 1974 and Office of Management and Budget (OMB) Circular No. A-108, notice is hereby given that the Office of Justice Programs (OJP) proposes to develop a new system of records titled “OJP Award Nomination System, JUSTICE/OJP-019.” OJP will use the OJP Award Nomination System to manage the submitting, reviewing, and coordinating of nomination applications for prestigious awards such as the Law Enforcement Congressional Badge of Bravery, Public Safety Officer Medal of Valor, National Crime Victims' Service Awards, and other OJP award programs.

DATES: In accordance with 5 U.S.C. 552a(e)(4) and (11), this notice is applicable upon publication, subject to a 30-day period in which to comment on the routine uses described below. Please submit any comments by November 18, 2024.

ADDRESSES: The public, OMB, and Congress are invited to submit any comments by mail to the United States Department of Justice, Office of Privacy and Civil Liberties, ATTN: Privacy Analyst, 145 N St. NE, Suite 8W. 300, Washington, DC 20002; by facsimile at 202-307-0693; or by email at privacy.compliance@usdoj.gov. To ensure proper handling, please reference the above CPCLO Order No. on your correspondence.

FOR FURTHER INFORMATION CONTACT: Bryce Mitchell, Division Director, Enterprise Application Development Division, Office of the Chief Information Officer, Office of Justice Programs, 999 North Capitol Street NE, Washington, DC 20002, Bryce.Mitchell@usdoj.gov, (202) 514-2412.

SUPPLEMENTARY INFORMATION: The OJP Award Nomination System provides authorized DOJ users with the capability to receive, maintain, and disseminate electronic nomination applications among panel review members. The OJP Award Nomination System also provides members of the public (i.e., nominators) the ability to create and submit records about individual nominees for these OJP awards through an online nomination form hosted on OJP Award Nomination sites. The online nomination applications constitute records about individuals, which once submitted into the system, are available for review by authorized OJP staff with a need to access the records in the system. Nominations for awards and related records will be maintained in the OJP Award Nomination System. These records will be used to determine eligibility for awards and may be disseminated to panel review members and other appropriate public officials who need to know the information for purposes of selecting awardees from the nominations received.

In accordance with 5 U.S.C. 552a(r), the DOJ has provided a report to OMB and Congress on this new system of records.

Dated: October 9, 2024.
Peter Winn,
Acting Chief Privacy and Civil Liberties Officer, United States Department of Justice.

JUSTICE/OJP—019

SYSTEM NAME AND NUMBER:

OJP Award Nomination System, JUSTICE/OJP—019.

SECURITY CLASSIFICATION:

The system is unclassified.

SYSTEM LOCATION:

Records in this system are maintained at the following locations: Office of Justice Programs (OJP); 999 North Capitol Street NE, Washington, DC 20002; and with the following cloud service providers: AWS GovCloud and/or Acquia Cloud. The cloud computing service providers and their location may change from time to time, and this document may not reflect the most current information available. To confirm information about the current cloud computing service provider, please contact OJP through the OJP service desk at email address OJP.ITservicedesk@ojp.usdoj.gov.

SYSTEM MANAGER(S):

Bryce Mitchell, Division Director, Enterprise Application Development Division, Office of the Chief Information Officer, Office of Justice Programs, 999 North Capitol Street NE, Washington, DC 20002, Bryce.Mitchell@usdoj.gov, (202) 514-2412.

AUTHORITY FOR MAINTENANCE OF THE SYSTEM:

28 U.S.C. 530C; 34 U.S.C. 10102 (a)(3).

PURPOSE(S) OF THE SYSTEM:

The OJP Award Nomination System manages the submittal, review, and coordination of nomination applications for prestigious DOJ awards conferred by OJP to recognize and honor exceptional and/or extraordinary acts of public service, often in the attempt to save or protect human life. Members of the public will access the system via an online portal where they will submit nomination applications for individuals they wish to receive the respective awards. Once the nominations are submitted, authorized DOJ users (e.g., the Designated Federal Officer, DOJ need-to-know program staff, and members of the panel review board), will have access to the records of the online nomination application of each nominee. Authorized DOJ users will use the system to run queries on various data elements within the records, review and score applications, and make awards determinations. These authorized DOJ users will also utilize the system to maintain files on unsuccessful nominees and update, modify, and maintain records on past and current award recipients.

CATEGORIES OF INDIVIDUALS COVERED BY THE SYSTEM:

Current and former OJP award nominees; members of the public who nominate individuals for OJP awards; DOJ personnel and contractors; OJP award review board members, and others with a need to use the records as permitted by the Privacy Act and pursuant to the routine uses in this notice.

CATEGORIES OF RECORDS IN THE SYSTEM:

The system will maintain names of nominators and award nominees, personal contact information (e.g., email address, phone number, home address) for award nominees, business contact information (e.g., email address, phone number, address of business) of the nominators; as well as other personal information (e.g., date of birth or age, place of birth, gender, race, religion, education or employment information, military service information) of the public safety award nominees, social security numbers (full or truncated) contained in the Authorization for Release of Information Form (SF-85P); health information or records (e.g., medical notes, disability, accommodations) pertaining to injuries sustained or disabilities resulting from an award nominee's act of bravery; and other personal information pertaining to the acts constituting the basis of the proposed award.

RECORD SOURCE CATEGORIES:

The records in the system may be obtained from, among other things, members of the public who nominate individuals for OJP awards, information pertaining to witnesses; case files from agencies and courts; other official State, Federal, Tribal, or Territorial records, as well as other information pertaining to the acts constituting the basis of the proposed award.

ROUTINE USES OF RECORDS MAINTAINED IN THE SYSTEM, INCLUDING CATEGORIES OF USERS AND THE PURPOSES OF SUCH USES:

In addition to those disclosures generally permitted under 5 U.S.C. 552a(b), all or a portion of the records contained in this system of records may be disclosed as a routine use pursuant to 5 U.S.C. 552a(b)(3) under the circumstances or for the purposes described below, to the extent such disclosures are compatible with the purposes for which the information was collected:

1. Where a record, either alone or in conjunction with other information, may be relevant to investigating a violation or potential violation of law—criminal, civil, or regulatory in nature—the relevant records may be referred to the appropriate Federal, state, local, territorial, tribal, or foreign law enforcement authority or other appropriate entity charged with the responsibility for investigating or prosecuting such violation or charged with enforcing or implementing such law.

2. To appropriate officials and employees of a Federal agency or entity to the extent necessary for making decisions about the award, such as but not limited to, background checks and suitability investigations.

3. To any person or entity that the DOJ has reason to believe possesses knowledge regarding matters pertaining to a DOJ award, to the extent deemed to be necessary by the DOJ in order to elicit information about the potential awardee for use in conferring the award.

4. In an appropriate proceeding before a court, grand jury, or administrative or adjudicative body, when the DOJ determines that the records are arguably relevant to the proceeding; or in an appropriate proceeding before an administrative or adjudicative body when the adjudicator determines the records to be relevant to the proceeding.

5. To the news media and the public, including but not limited to disclosures pursuant to 28 CFR 50.2, unless it is determined that release of the specific information in the context of a particular case or matter would constitute an unwarranted invasion of personal privacy. While disclosures under 28 CFR 50.2 are in connection with a civil or criminal proceeding, disclosures under this routine use may also pertain to administrative proceedings as well as investigations of Federal employee misconduct prejudicial to the interests of members of the public.

6. To contractors, grantees, experts, consultants, students, and others performing or working on a contract, service, grant, cooperative agreement, or other assignment for the Federal Government, when necessary to accomplish an agency function related to this system of records.

7. To a former employee of the DOJ for official purposes where the DOJ requires information and/or consultation assistance from the former employee regarding a matter within that person's former area of responsibility.

8. To a Member of Congress or staff acting upon the Member's behalf when the Member or staff requests the information on behalf of, and at the request of, the individual who is the subject of the record.

9. To the National Archives and Records Administration for purposes of records management inspections conducted under the authority of 44 U.S.C. 2904 and 2906.

10. To appropriate agencies, entities, and persons when (1) the DOJ suspects or has confirmed that there has been a breach of the system of records; (2) the DOJ has determined that as a result of the suspected or confirmed breach there is a risk of harm to individuals, the DOJ (including its information systems, programs, and operations), the Federal Government, or national security; and (3) the disclosure made to such agencies, entities, and persons is reasonably necessary to assist in connection with the DOJ's efforts to respond to the suspected or confirmed breach or to prevent, minimize, or remedy such harm.

11. To another Federal agency or Federal entity, when the DOJ determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

12. To any agency, organization, or individual for the purpose of performing authorized audit or oversight operations of DOJ and meeting related reporting requirements.

13. To such recipients and under such circumstances and procedures as are mandated by Federal statute or treaty.

POLICIES AND PRACTICES FOR STORAGE OF RECORDS:

Records in the OJP Award Nomination System are stored in electronic format in OJP cloud platforms. Records are stored securely in accordance with applicable Federal laws, regulations, DOJ directives, and guidance.

POLICIES AND PRACTICES FOR RETRIEVAL OF RECORDS:

Records can be retrieved through the OJP Award Nomination Systems portals or through a connecting system via a connector or application program interface (API). The records are retrievable by global search for application ID, or a combination of: first name, last name, city, state, or email address of nominee, witnesses, or nominator; date of relevant event/occurrence; nominee employing agency; and nominee physical addresses.

POLICIES AND PRACTICES FOR RETENTION AND DISPOSAL OF RECORDS:

Records in this system are retained and disposed of in accordance with the National Archives and Records Administration, General Records Schedule 5.7: “Administrative Management and Oversight Records” for records about administrative management activities in Federal agencies.

ADMINISTRATIVE, TECHNICAL, AND PHYSICAL SAFEGUARDS:

This system meets all DOJ requirements for authorization to operate per DOJ Order 0904, Cybersecurity Program. Specifically, information in this system is maintained in accordance with applicable laws, rules, and policies on protecting individual privacy. The system leverages cloud service providers that maintain an authority to operate in accordance with applicable laws, rules, and policies, including Federal Risk and Authorization Management Program (FedRAMP) requirements.

Backup information will be maintained in accordance with a government contract that requires adherence to applicable laws, rules, and policies. Internet connections are protected by multiple firewalls. Security personnel conduct periodic vulnerability scans using DOJ-approved software to ensure security compliance and security logs are enabled for all computers to assist in troubleshooting and forensics analysis during incident investigations. Users of individual computers can only gain access to the data by a valid user's identification and authentication.

RECORD ACCESS PROCEDURES:

All requests for access to records must be in writing and should be addressed to the component that manages the relevant award:

OJP FOIA Officer; Office of Justice Programs; Office of the General Counsel; 999 North Capitol Street NE, Washington, DC 20002.

The envelope and letter should be clearly marked “Privacy Act Access Request.” The request must describe the records sought in sufficient detail to enable DOJ personnel to locate them with a reasonable amount of effort. The request must include a general description of the records sought and must include the requester's full name, current address, and date and place of birth. The request must be signed and either notarized or submitted under penalty of perjury. Although no specific form is required, you may obtain forms for this purpose from the FOIA/Privacy Act Mail Referral Unit, United States Department of Justice, 950 Pennsylvania Avenue NW, Washington, DC 20530, or on the Department of Justice website at https://www.justice.gov/oip/oip-request.html.

More information regarding the DOJ's procedures for accessing records in accordance with the Privacy Act can be found at 28 CFR part 16, subpart D, “Access to and Amendment of Individual Records Pursuant to the Privacy Act of 1974, and Other Privacy Protections.”

CONTESTING RECORD PROCEDURES:

Individuals seeking to contest or amend records pertaining to them, maintained in this system of records, must direct their requests to the address indicated in the RECORD ACCESS PROCEDURES paragraph, above. All requests to contest or amend records must be in writing and the envelope and letter should be clearly marked “Privacy Act Amendment Request.” All requests must state clearly and concisely what record is being contested, the reasons for contesting it, and the proposed amendment to the record.

More information regarding the DOJ's procedures for amending or contesting records in accordance with the Privacy Act can be found at 28 CFR 16.46, “Privacy Act requests for amendment or correction.”

NOTIFICATION PROCEDURES:

Individuals may request to be notified if a record in this system of records pertains to them by utilizing the same procedures as those identified in the RECORD ACCESS PROCEDURES paragraph, above.

EXEMPTIONS PROMULGATED FOR THE SYSTEM:

None.

HISTORY:

None.

[FR Doc. 2024-23950 Filed 10-17-24; 8:45 am]

BILLING CODE 4410-18-P